DEPARTMENT OF ENERGY

Federal Energy Regulatory Commission

[Project No. 2085-000]

Southern California Edison Company; Notice of Application and Preliminary Draft Environmental Assessment Tendered For Filing With the Commission, and Establishing Deadline for Submission of Final Amendments

December 16, 2005.

Take notice that the following hydroelectric application has been filed with the Commission and is available for public inspection.

a. Type of Application: New—Major License.

b. Project No.: 2085-000.

c. Date Filed: November 29, 2005.

d. Applicant: Southern California Edison Company.

e. Name of Project: Mammoth Pool Hydroelectric Power Project.

f. Location: On the San Joaquin River, near North Fork, California. The project affects 2,036 acres of federal land administered by the Sierra National Forest.

g. Filed Pursuant to: Federal Power Act 16 U.S.C. 791(a)-825(r).

h. Applicant Contact: Russ W. Krieger, Vice President Power Production, Southern California Edison Company, 300 N. Lone Hill Ave., San Dimas, CA 91773. Phone: 909-394-8667.

i. FERC Contact: Jim Fargo at (202) 502-6095, or e-mail: james.fargo@ferc.gov.

j. Cooperating Agencies: We are asking federal, state, local, and tribal agencies with jurisdiction and/or special expertise with respect to environmental issues to cooperate with us in the preparation of the environmental document. Agencies who would like to request cooperating status should follow the instructions for filing comments described in item k below. Agencies granted cooperating status will be precluded from being an intervenor in this proceeding consistent with the Commission's regulations.

k. Deadline for requests for cooperating agency status: 60 days from the date of this notice. All documents (original and eight copies) should be filed with: Magalie R. Salas, Secretary, Federal Energy Regulatory Commission, 888 First Street, NE., Washington, DC 20426. Comments may be filed electronically via the Internet in lieu of paper; see 18 CFR 385.2001(a)(1)(iii) and the instructions on the Commission's Web site (http://www.ferc.gov) under the “e-Filing” link. After logging into the e-Filing system, select “Comment on Filing” from the Filing Type Selection screen and continue with the filing and process. The Commission strongly encourages electronic filing.

l. Status: This application has not been accepted for filing. We are not soliciting motions to intervene, protests, or final terms and conditions at this time.

m. Description of project: The Project is located in the central Sierra Nevada, within the San Joaquin River watershed, about 50 miles northeast of the City of Fresno. The Project is operated as a reservoir-storage type plant with an installed operating capacity of 190.0 MW and a dependable operating capacity of 187.0 MW. Water for the Project is taken from the San Joaquin River, Ross Creek, and Rock Creek and conveyed to the Mammoth Pool Powerhouse through the Mammoth Pool Tunnel.

The Project facilities include: The Mammoth Pool Dam forming Mammoth Pool Reservoir, with a capacity of about 119,940 acre-feet at an elevation of about 3,330 feet above mean sea level; one power tunnel about 7.5 miles long, to convey water from Mammoth Pool Reservoir to Mammoth Pool Powerhouse; two small diversions on Rock Creek and Ross Creek; and one 230 kV transmission line about 6.7 miles long that connects the Mammoth Pool Powerhouse to the non-project Big Creek No. 3 Switchyard.

n. A copy of the application is available for review at the Commission in the Public Reference Room or may be viewed on the Commission's Web site at: http://www.ferc.gov using the “eLibrary” link. Enter the docket number, excluding the last three digits in the docket number field (P-2085), to access the document. For assistance, contact FERC Online Support at FERCOnlineSupport@ferc.gov, or toll-free at 1-866-208-3676, or for TTY, (202) 502-8659. A copy is also available for inspection and reproduction at the address in item h above. You may also register online at: http://www.ferc.gov/esubscribenow.htm to be notified via e-mail of new filings and issuances related to this or other pending projects. For assistance, contact FERC Online Support.

o. With this notice, we are initiating consultation with the CALIFORNIA STATE HISTORIC PRESERVATION OFFICER (SHPO), as required by § 106, National Historic Preservation Act, and the regulations of the Advisory Council on Historic Preservation, 36 CFR 800.4.

p. Final amendments: Final amendments to the application must be filed with the Commission no later than 30 days from the issuance date of the notice soliciting final terms and conditions.

Magalie R. Salas,
Secretary.

[FR Doc. E5-7909 Filed 12-27-05; 8:45 am]

BILLING CODE 6717-01-P